DEPARTMENT OF AGRICULTURE

Office of Partnerships and Public Engagement

Public 2501 Stakeholder Call

AGENCY: OPPE, USDA.

ACTION: Notice of public 2501 Stakeholder Call.

SUMMARY: In accordance with the 2018 Farm Bill, this notice announces the intention of the OPPE to host a public teleconference to solicit stakeholder feedback for its Outreach and Assistance for Socially Disadvantaged Farmers and Ranchers and Veteran Farmers and Ranchers Grant Program, also known as the 2501 Program.

DATES: The teleconference will be held on January 25, 2021, 1:00 p.m.—3:00 p.m. EST. Comments on this notice must be received by 5:00 p.m. EST on January 25, 2021, to be assured of consideration.

ADDRESSES: OPPE invites interested persons to participate in the call with the following call-in instructions:

Call-in number: 888-251-2949 Passcode: 1813982#

Comments may be submitted by Email at: 2501grants@usda.gov.

Instructions: All items submitted by electronic mail must include the Agency name and docket number [USDA-OPPE].

FOR FURTHER INFORMATION CONTACT: U.S. Department of Agriculture, Attention: Kenya Nicholas, Program Director, 1400 Independence Ave., SW, Mail Stop 0601, Washington, DC 20250, Office 202-720-6350 and/or email at: 2501grants@usda.gov.

SUPPLEMENTARY INFORMATION: The 2501 Program was created through the 1990 Farm Bill to assist socially disadvantaged farmers, ranchers, and foresters, who have historically experienced limited access to USDA loans, grants, training, and technical assistance. The 2014 Farm Bill expanded the program's reach to assist veterans.

Under this program, grants are awarded to higher education institutions and nonprofit and community-based organizations to extend USDA's engagement efforts in these communities. Projects funded under the 2501 Program include but are not limited to conferences, workshops, and demonstrations on various farming techniques, and connecting underserved farmers and ranchers to USDA local officials to increase awareness of USDA's programs and services while filling the needs for increased partnerships. Since 2010, the 2501 program has awarded 533 grants totaling more than $138 million.

Jacqueline Davis-Slay,
Deputy Director, Office of Partnerships and Public Engagement.

[FR Doc. 2021-00015 Filed 1-6-21; 8:45 am]

BILLING CODE 3412-89-P